SOCIAL SECURITY ADMINISTRATION

20 CFR Part 422

[Docket No. SSA-2007-0009]

RIN 0960-AG36

Private Printing of Prescribed Applications, Forms, and Other Publications

AGENCY: Social Security Administration.

ACTION: Notice of proposed rulemaking.

SUMMARY: The current regulation at 20 CFR 422.527 requires a person, institution, or organization (person) to obtain approval from the Social Security Administration (SSA) prior to reproducing, duplicating, or privately printing any application or other form prescribed by the Administration. Such approval has been required whether or not the person intended to charge a fee for SSA's application(s) or other form(s). Section 1140(a)(2)(A) of the Social Security Act (the Act) prohibits a person from charging a fee to reproduce, reprint, or distribute any SSA application, form, or publication unless he/she obtains the authorization of the Commissioner of Social Security in accordance with such regulations as he may prescribe. (42 U.S.C. 1320b-10(a)(2)(A)). This proposed rule would implement section 1140(a)(2)(A) of the Act by adding SSA's publications to the pre-authorization requirement identified in 20 CFR 422.527 and by establishing that SSA's authorization is required only when the person intends to charge a fee. The proposed rule also would prescribe the procedures a person who intends to charge a fee must follow to obtain SSA's written authorization prior to reproducing, reprinting, and/or distributing SSA's applications, forms, or publications.

DATES: To be sure your comments are considered, we must receive the comments on or before October 15, 2007.

ADDRESSES: You may give us your comments by: Internet through the Federal eRulemaking portal at http://www.regulations.gov; sending a telefax to (410) 966-2830; or mailing a letter to the Commissioner of Social Security, P.O. Box 17703, Baltimore, Maryland 21235-7703. You may also deliver your comments to the Office of Regulations, Social Security Administration, 107 Altmeyer Building, 6401 Security Boulevard, Baltimore, MD 21235-6401, between 8 a.m. and 4:30 p.m. on regular business days. Comments are posted on the Federal eRulemaking portal, or you may inspect them on a regular business days by making arrangements with the contact person shown in this preamble.

FOR FURTHER INFORMATION CONTACT: You may contact Renee Williams, Forms Management Team, Office of Publications and Logistics Management, 1325 Annex Building, 6401 Security Boulevard, Baltimore, Maryland 21235-6401 (410) 965-4163, for information about this regulation. For information on eligibility or claiming benefits, please call our national toll-free numbers, 1-800-772-1213 or TTY 1-800-325-0778, or visit our Internet site, SSA Online, at http://www.socialsecurity.gov.

SUPPLEMENTARY INFORMATION: The electronic file of this document is available on the date of publication in the Federal Register at http://www.gpoaccess.gov/fr/index.html.

Background

The current regulation at 20 CFR 422.527 requires any person who wishes to reproduce, duplicate, or privately print any application or other form prescribed by SSA to obtain prior approval of such use from SSA. Consistent with the requirements of 20 CFR 422.527, in 1992, SSA began approving requests from the public to duplicate or privately print the Administration's applications or other forms. The requirement to obtain SSA approval applied whether or not the person intended to charge a fee.

Section 312(a) of the Social Security Independence and Program Improvement Act (SSIPA) amended the Social Security Act (the Act) and, among other things, added section 1140(a)(2)(A) to the Act. Pub. L. 103-296, Sec. 312(a) (codified as 42 U.S.C. § 1320b-10(a)(2)(A)). This section prohibits any person from charging a fee to reproduce, reprint, or distribute SSA's official applications, forms, or publications unless the Commissioner grants the person specific written authorization in accordance with regulations which the Commissioner shall prescribe. This proposed rule would implement section 312(a) of the SSIPA by adding SSA publications to the current regulation and by providing for SSA's prior approval of requests to reproduce, reprint, and/or distribute its applications, forms, or publications when the person intends to charge a fee. Furthermore, our proposed rule would implement section 312(a) by establishing the procedure any person who intends to charge a fee for reproducing, reprinting, or distributing SSA materials must follow to obtain SSA's prior approval. The requirement to obtain SSA's prior approval would apply regardless of the means the person uses to transmit the document, e.g., Internet or direct mail. This regulation would help to ensure that consumers obtain accurate and current materials and information regarding the Administration's programs.

Clarity of This Regulation

Executive Order 12866, as amended, requires each agency to write all rules in plain language. In addition to your substantive comments on this proposed rule, we invite your comments on how to make this proposed rule easier to understand.

For example:

• Have we organized the material to suit your needs?

• Are the requirements of the rule clearly stated?

• Does the rule contain technical language or jargon that isn't clear?

• Would a different format (grouping and order of sections, use of headings, paragraphing) make the rule easier to understand?

• Would more (but shorter) sections be better?

• Could we improve the clarity by adding tables, lists, or diagrams?

• What else could we do to make the rule easier to understand?

Regulatory Procedures

Executive Order 12866

We have consulted with the Office of Management and Budget (OMB) and determined that this proposed rule does not meet the criteria for a significant regulatory action under Executive Order 12866, as amended.

Regulatory Flexibility Act

We certify that this proposed regulation will not have a significant economic impact on a substantial number of small entities. Therefore, a regulatory flexibility analysis as provided in the Regulatory Flexibility Act, as amended, is not required.

Paperwork Reduction Act

The proposed rule at 20 CFR 422.527 contains information collection requirements. SSA will collect the information called for in this regulation using Form SSA-1010, Request to Reproduce, Duplicate, or Distribute SSA Forms, Applications, or Publications.

Below is the estimated public reporting burden:

| SSA-1010
Number of Respondents | 9
Frequency of Response | 36
Average Burden per Response (minutes) | 8
Estimated Annual Burden (hours) | 43

We have submitted an Information Collection Request to the Office of Management and Budget (OMB) for clearance. We are soliciting comments on the burden estimate; the need for the information; its practical utility; ways to enhance its quality, utility and clarity; and on ways to minimize the burden on respondents, including the use of automated collection techniques or other forms of information technology. Comments should be submitted to the OMB and to the Social Security Administration at the following addresses/fax numbers:

Office of Management and Budget, Attn: Desk Officer for SSA, Fax Number: 202-395-6974, E-mail address: OIRA_Submissions@omb.eop.gov.

Social Security Administration, Attn: SSA Reports Clearance Officer, Rm. 1333 Annex Building, 6401 Security Boulevard, Baltimore, MD 21235-6401, Fax Number: 410-965-6400.

Comments can be received for up to 60 days after publication of this notice and will be most useful if received by SSA within 30 days of publication. To receive a copy of the OMB clearance request, call the SSA Reports Clearance Officer at 410-965-0454.

List of Subjects in 20 CFR Part 422

Administrative practice and procedure, Organization and functions (Government agencies), Social Security, Reporting and recordkeeping requirements.

Dated: May 30, 2007.
Michael J. Astrue,
Commissioner of Social Security.

For the reasons set forth in the preamble, we propose to amend § 422.527 of subpart F of part 422 of chapter III of title 20 of the Code of Federal Regulations as follows.

PART 422—ORGANIZATION AND PROCEDURES

Subpart F—[Amended]

1. The authority citation for subpart F of part 422 is revised to read as follows:

Authority: Sec. 1140(a)(2)(A) of the Social Security Act. 42 U.S.C. 1320b-10(a)(2)(A) (Pub. L. 103-296, Sec. 312(a)).

2. Section 422.527 is revised to read as follows:

§ 422.527 Private printing and modification of prescribed applications, forms, and other publications.

Any person, institution, or organization wishing to reproduce, reprint, or distribute any application, form, or publication prescribed by the Administration must obtain prior approval if he or she intends to charge a fee. Requests for approval must be in writing and include the reason or need for the reproduction, reprinting, or distribution; the intended users of the application, form, or publication; the fee to be charged; any proposed modification; the proposed format; the type of machinery (e.g., printer, burster, mail handling), if any, for which the application, form, or publication is being designed; estimated printing quantity; estimated printing cost per thousand; estimated annual usage; and any other pertinent information required by the Administration. Forward all requests for prior approval to: Office of Publications Management, 6401 Security Boulevard, Baltimore, MD 21235-6401.

[FR Doc. E7-16140 Filed 8-15-07; 8:45 am]

BILLING CODE 4191-02-P